DEPARTMENT OF AGRICULTURE

National Agricultural Statistics Service

Confidentiality Pledge Revision Notice

AGENCY: National Agricultural Statistics Service, USDA.

ACTION: Notice.

SUMMARY: Under 44 U.S.C. 3506(e), and 44 U.S.C. 3501, the National Agricultural Statistics Service (NASS) is renewing a revision to the confidentiality pledge it provides to its respondents under CIPSEA and Title 7, Chapter 55, Section 2276. This renewal will be valid for three years. The revision was originally approved by the Office of Management and Budget (OMB) on December 1, 2016 under an emergency request. The original request was warranted by the passage and implementation of provisions of the Federal Cybersecurity Enhancement Act of 2015 (H.R. 2029, Division N, Title II, Subtitle B, Sec. 223), which permits and requires the Secretary of Homeland Security to provide federal civilian agencies' information technology systems with cybersecurity protection for their Internet traffic. More details on this announcement are presented in the SUPPLEMENTARY INFORMATION section below.

DATES: Comments on this notice must be received by February 21, 2017 to be assured of consideration.

ADDRESSES: You may submit comments, identified by docket number 0535-0260, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336, South Building, 1400 Independence Avenue SW., Washington, DC 20250-2024.

FOR FURTHER INFORMATION CONTACT: R. Renee Picanso, Associate Administrator, National Agricultural Statistics Service, U.S. Department of Agriculture, (202) 720-4333, or email HQOA@nass.usda.gov. Copies of this information collection and related instructions can be obtained without charge from David Hancock, NASS—OMB Clearance Officer, at (202) 690-2388 or at ombofficer@nass.usda.gov.

SUPPLEMENTARY INFORMATION: Under CIPSEA; Title 7, Chapter 55, Section 2276; and similar statistical confidentiality protection statutes, many federal statistical agencies, including NASS, make statutory pledges that the information respondents provide will be seen only by statistical agency personnel or their sworn agents, and will be used only for statistical purposes. CIPSEA and Title 7, Chapter 55, Section 2276 protect such statistical information from administrative, law enforcement, taxation, regulatory, or any other non-statistical use and immunize the information submitted to statistical agencies from legal process. Moreover, many of these statutes carry criminal penalties of a Class E felony (fines up to $250,000, or up to five years in prison, or both) for conviction of a knowing and willful unauthorized disclosure of covered information.

As part of the Consolidated Appropriations Act for Fiscal Year 2016 signed on December 17, 2015, the Congress included the Federal Cybersecurity Enhancement Act of 2015 (H.R. 2029, Division N, Title II, Subtitle B, Sec. 223). This Act, among other provisions, permits and requires the Secretary of Homeland Security to provide federal civilian agencies' information technology systems with cybersecurity protection for their Internet traffic. The technology currently used to provide this protection against cyber malware is known as “Einstein 3A”. It electronically searches Internet traffic in and out of federal civilian agencies in real time for malware signatures.

When such a signature is found, the Internet packets that contain the malware signature are shunted aside for further inspection by Department of Homeland Security (DHS) personnel. Because it is possible that such packets entering or leaving a statistical agency's information technology system may contain confidential statistical data, statistical agencies can no longer promise their respondents that their responses will be seen only by statistical agency personnel or their sworn agents. However, they can promise, in accordance with provisions of the Federal Cybersecurity Enhancement Act of 2015, that such monitoring can be used only to protect information and information systems from cybersecurity risks, thereby, in effect, providing stronger protection to the integrity of the respondents' submissions.

Consequently, with the passage of the Federal Cybersecurity Enhancement Act of 2015, the federal statistical community has an opportunity to welcome the further protection of its confidential data offered by DHS' Einstein 3A cybersecurity protection program. The DHS cybersecurity program's objective is to protect federal civilian information systems from malicious malware attacks. The federal statistical system's objective is to ensure that the DHS Secretary performs those essential duties in a manner that honors the Government's statutory promises to the public to protect their confidential data. Given that the Department of Homeland Security is not a federal statistical agency, both DHS and the federal statistical agencies have been engaged in finding a way to balance both objectives and achieve these mutually reinforcing objectives.

Accordingly, DHS and federal statistical agencies (including NASS), in cooperation with their parent departments, have developed a Memorandum of Agreement for the installation of Einstein 3A cybersecurity protection technology to monitor their Internet traffic and have incorporated an associated Addendum on Highly Sensitive Agency Information that provides additional protection and enhanced security handling of confidential statistical data. However, CIPSEA; Title 7, Chapter 55, Section 2276; and similar statistical confidentiality pledges promise that respondents' data will be seen only by statistical agency personnel or their sworn agents. Since it is possible that DHS personnel could see some portion of those confidential data in the course of examining the suspicious Internet packets identified by the Einstein 3A technology, statistical agencies need to revise their confidentiality pledges to reflect this process change.

Therefore, NASS is providing this notice to alert the public to this confidentiality pledge revision in an efficient and coordinated fashion. Below is the revised confidentiality pledge as it will appear on NASS survey questionnaires, as well as the revision to NASS's confidentiality Web page. A list of the NASS OMB numbers and information collection titles that will be affected by this revision is also included below.

The revised confidentiality pledge to appear on NASS questionnaires is below:

The information you provide will be used for statistical purposes only. Your responses will be kept confidential and any person who willfully discloses ANY identifiable information about you or your operation is subject to a jail term, a fine, or both.

This survey is conducted in accordance with the Confidential Information Protection provisions of Title V, Subtitle A, Public Law 107-347 and other applicable Federal laws. For more information on how we protect your information please visit: https://www.nass.usda.gov/confidentiality.

For voluntary surveys the statement, “Response to this survey is voluntary.” will follow this pledge. For mandatory surveys the statement, “Response to this survey is mandatory.” or “Response to this survey is required by law.” will follow.

The NASS confidentiality pledge Web page: https://www.nass.usda.gov/confidentiality will be revised to include a fifth item explaining that DHS will monitor the transmission of data for cybersecurity threats. Item 5 is below:

5. Data Are Protected From Cybersecurity Threats

Per the Cybersecurity Enhancement Act of 2015, your data are further protected by the Department of Homeland Security (DHS) through cybersecurity monitoring of the systems that transmit your data. DHS will be monitoring these systems to look for viruses, malware and other threats. In the event of a cybersecurity incident, and pursuant to any required legal process, information from these sources may be used to help identify and mitigate the incident.

Affected information collections:

OMB No. | Expiration date | Information collection title
0535-0001 | 04/30/2019 | Cold Storage.
0535-0002 | 10/31/2018 | Field Crops Production.
0535-0003 | 07/31/2019 | Agricultural Prices.
0535-0004 | 01/31/2019 | Egg, Chicken, and Turkey Surveys.
0535-0005 | 11/30/2017 | Livestock Slaughter.
0535-0007 | 01/31/2019 | Stocks Reports.
0535-0020 | 07/31/2018 | Milk and Milk Products.
0535-0037 | 08/31/2019 | Vegetable Surveys.
0535-0039 | 10/31/2019 | Fruit, Nuts, and Specialty Crops.
0535-0088 | 07/31/2018 | Field Crops Objective Yield.
0535-0093 | 11/30/2018 | Floriculture Survey.
0535-0109 | 03/31/2018 | Agricultural Labor.
0535-0140 | 01/31/2019 | List Sampling Frame Survey.
0535-0150 | 06/30/2017 | Aquaculture.
0535-0153 | 12/31/2018 | Honey Survey.
0535-0212 | 11/30/2018 | Mink Survey.
0535-0213 | 06/30/2017 | Agricultural Surveys Program.
0535-0218 | 07/31/2018 | Agricultural Resource Management and Chemical Use Surveys (ARMS).
0535-0220 | 03/31/2017 | Cotton Ginnings.
0535-0226 | 10/31/2019 | Census of Agriculture.
0535-0243 | 08/31/2018 | Census of Agriculture Content Test.
0535-0244 | 11/30/2019 | Nursery Production Survey and Nursery and Floriculture Chemical Use Survey.
0535-0245 | 09/30/2017 | CEAP—NRI Conservation Tillage and Nutrient Management Survey.
0535-0248 | 04/30/2019 | Generic Clearance of Survey Improvement Projects.
0535-0249 | 12/31/2017 | Organic Production Survey.
0535-0251 | 05/30/2019 | Residue and Biomass Field Survey.
0535-0254 | 07/31/2017 | Current Agricultural Industrial Reports (CAIR).
0535-0255 | 04/30/2018 | Colony Loss.
0535-0256 | 06/30/2018 | Feral Swine Survey.
0535-0257 | 10/31/2018 | Organic Certifier Census.
0535-0258 | 11/30/2018 | Cost of Pollination Survey.
0535-0259 | 03/31/2019 | Local Foods Survey.

Signed at Washington, DC, December 12, 2016.
R. Renee Picanso,
Associate Administrator.

[FR Doc. 2016-30658 Filed 12-19-16; 8:45 am]

BILLING CODE 3410-20-P